DEPARTMENT OF THE INTERIOR

National Park Service

[NPS-WASO-NRNHL-DTS#-38984; PPWOCRADI0, PCU00RP14.R50000]

National Register of Historic Places; Notification of Pending Nominations and Related Actions

AGENCY: National Park Service, Interior.

ACTION: Notice.

SUMMARY: The National Park Service is soliciting electronic comments on the significance of properties nominated before October 19, 2024, for listing or related actions in the National Register of Historic Places.

DATES: Comments should be submitted electronically by November 13, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 24, 2024. Pursuant to 36 CFR 60.13, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

COLORADO

Denver County

The Owl Club of Denver, 2815 Madison Street, Denver, SG100011062

Otero County

Manzanola United Methodist Church (MUMC), 115 Park Street, Manzanola, SG100011069

IOWA

Linn County

Luther A. and Elinore T. Brewer House, 616 10th Ave. SE, Cedar Rapids, SG100011084

Marshall County

Louis F. and Emma M. (Edler) Wohlert House-Emma Wohlert Maternity Home, 407 3rd Ave. NE, State Center, SG100011083

Polk County

Davidson Bros. Company Warehouse and Manufacturing Building, 108 SW 3rd Street, Des Moines, SG100011064

NEW YORK

Erie County

Sacred Heart Roman Catholic Church and Convent, 198 Emslie Street, Buffalo, SG100011076

Yeomans House, 866 East Main Street, East Aurora, SG100011077

New York County

Dominican Historic District, Roughly W. 155th St., Broadway, Dyckman St., Harlem River Drive, Manhattan, SG100011048

Gaylord White Houses, 2029 Second Avenue, New York, SG100011075

Onondaga County

Montgomery Street-Columbus Circle Historic District (Boundary Increase and Decrease), E. Onondaga, E. Fayette, Harrison, S. State, Madison, S. Warren & Montgomery Sts., Syracuse, BC100011082

Ontario County

SENECA CHIEF (shipwreck), Address Restricted, Canandaigua, SG100011074

Richmond County

West Brighton Plaza, Generally, Henderson Ave., Broadway, Castleton Ave., and Alaska Ave., Staten Island, SG100011081

Ulster County

Kingston Barrel Factory, 35 Bruyn Avenue, Kingston, SG100011078

Westchester County

Sailing Vessel GITANA, New Rochelle Lower Harbor, New Rochelle, SG100011073

TENNESSEE

Bedford County

Rosenwald Recreation and Community Center, 516 Tillman St., Shelbyville, SG100011067

TEXAS

Hays County

Dunbar Historic District, Roughly bounded by South Fredericksburg Street, West Martin Luther King Drive, Herndon Street, and Centre Street, San Marcos, SG100011049

Wise County

Bridgeport Commercial Historic District, Halsell Street, roughly between 9th Street and 12th Street, Bridgeport, SG100011085

UTAH

Box Elder County

Spiral Jetty, North Shore of the Great Salt Lake, Corinne vicinity, SG100011066

WYOMING

Natrona County

Izaak Walton League of America, Charles E. Piersall Chapter, Clubhouse-Lodge, 4205 Fort Caspar Road, Mills, SG100011060

Teton County

John Clymer Residence, 7255 N. Rachel Way, Teton Village, SG100011059

Ellen G. Walker Shop, 81 S. King Street, Jackson, SG100011061

Coe Cabin, 85 S. King Street, Jackson, SG100011063

Additional documentation has been received for the following resource(s):

IOWA

Muscatine County

McKee Button Company (Additional Documentation), 1020 Hershey Ave., Muscatine, AD100005784

NEW YORK

Albany County

Center Square-Hudson-Park Historic District (Additional Documentation), Roughly bounded by Park Ave., State, Lark and S. Swan Sts., Albany, AD80002578

Tompkins County

Ithaca Downtown Historic District (Additional Documentation), E. and W. State, N. & S. Cayuga, N. Aurora, N. Tioga Sts., Ithaca, AD05000018

TENNESSEE

Anderson County

Edwards-Fowler House (Additional Documentation), 1062 Old Lake City Hwy, Rocky Top (formerly Lake City) vicinity, AD75001726

Bedford County

Gilliland, James, House (Additional Documentation), 803 Lipscomb St., Shelbyville, AD75001730

Hamblen County

Hamblen County Courthouse (Additional Documentation), 511 W. 2nd North St., Morristown, AD73001770

Hamilton County

Brown House (Additional Documentation), 9521 Ooltewah-Georgetown Rd., Ooltewah vicinity, AD73001781

Lawrence County

Lawrence County Jail (Additional Documentation), 233 Waterloo Street, Lawrenceburg, AD76001784

Loudon County

Bowman House (Additional Documentation), At the end of Tanasi Court, Loudon vicinity, AD70000610

Montgomery County

Sevier Station (Additional Documentation), 326 Walker Street, Clarksville, AD71000827

Rutherford County

Collier-Crichlow House (Additional Documentation), 511 E. Main St., Murfreesboro, AD73001822

Palmer, Gen. Joseph B., House (Additional Documentation), 434 E. Main St., Murfreesboro, AD73001825

Scott County

Old Scott County Jail (Additional Documentation), 214 Litton Covered Bridge Road, Huntsville, AD74001927

Sullivan County

Alison, Finlay, House (Additional Documentation), 1334 N. Pickens Bridge Road, Piney Flats vicinity, AD73001851

Wilson County

Pickett Chapel Methodist Church (Additional Documentation), 209 E. Market Street, Lebanon, AD77001302

Authority: 36 CFR 60.13

Sherry A. Frear,
Chief, National Register of Historic Places/National Historic Landmarks Program.

[FR Doc. 2024-25045 Filed 10-28-24; 8:45 am]

BILLING CODE P